NUCLEAR REGULATORY COMMISSION

[Docket No. 72-09; NRC-2025-0075]

Department of Energy; Fort St. Vrain Independent Spent Fuel Storage Installation; License Amendment

AGENCY: Nuclear Regulatory Commission.

ACTION: Notice of issuance.

SUMMARY: The U.S. Nuclear Regulatory Commission (NRC) reviewed an application by the Department of Energy (DOE) for an amendment to Special Nuclear Materials (SNM) License No. SNM-2504, for the Fort St. Vrain (FSV) independent spent fuel storage installation (ISFSI) located in Platteville, Colorado. The requested amendment revises certain license conditions and technical specifications (TS) by adjusting references to relevant organizational components of DOE, correcting prior clerical drafting errors, and changing the description of a DOE official who is responsible for the operation and nuclear safety of the FSV ISFSI and for ensuring its compliance with certain conditions and requirements of the license and applicable regulations.

DATES: The license amendment is issued and effective on August 27, 2025.

ADDRESSES: Please refer to Docket ID NRC-2025-0075 when contacting the NRC about the availability of information regarding this action. You may obtain publicly available information related to this document using any of the following methods:

• Federal Rulemaking website: Go to https://www.regulations.gov and search for NRC-2025-0075. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Daneira Meléndez-Colón, Office of Nuclear Material Safety and Safeguards, U.S. Nuclear Regulatory Commission, Washington DC 20555-0001; telephone: 301-415-7295, email: Daneira.Melendez-Colon@nrc.gov.

SUPPLEMENTARY INFORMATION:

I. Introduction

By letter dated November 14, 2024, DOE submitted to the NRC an application to amend the license conditions and TS for the FSV ISFSI, located in Platteville, Colorado. Materials License No. SNM-2504 authorizes the licensee to receive, possess, store, and transfer spent nuclear fuel from the decommissioned FSV Nuclear Generating Station. The proposed amendment revises TS 5.1.1 and 5.2.1.1 so that they explicitly designate the Manager for the Idaho Cleanup Project (ICP) as the DOE official who is responsible for the operation and nuclear safety of the FSV ISFSI and for ensuring its compliance with NRC license conditions and regulatory requirements. TS 5.1.1 currently designates the Deputy Manager for the ICP as the DOE official who is responsible for the operation of the FSV ISFSI and for ensuring its compliance with NRC license conditions and regulatory requirements. The proposed amendment also revises TS 5.6.1 so that it identifies the Manager for the ICP, rather than the Deputy Manager, as one of the two DOE officials who are responsible for submitting certain reports that are required in connection with the license. Additionally, the proposed amendment corrects clerical drafting errors in TS 3.3.1 and 5.5.2.6 so that those technical specifications accurately reflect changes that were previously approved and included in License Amendment No. 10 but were inadvertently omitted from License Amendment No. 11. The proposed amendment also corrects an erroneous regulatory citation in TS 5.5.1.d, corrects a typographical error in TS 5.5.2.5, and adjusts references to relevant organizational components of DOE in License Condition 14 and in TS 5.1.5, 5.4.2, and 5.5.2.7.

In a letter dated March 21, 2025, the NRC notified DOE that the application was acceptable to begin a technical review. The NRC's Office of Nuclear Material Safety and Safeguards docketed the application under Docket No. 72-09. In accordance with section 72.16(e) of title 10 of the Code of Federal Regulations (10 CFR), the NRC published a notice of docketing in the Federal Register on May 5, 2025 (90 FR 19011).

The NRC prepared a safety evaluation report (SER) to document its review and evaluation of the amendment request. As further explained in the SER, the NRC has determined that the license amendment is administrative in nature and satisfies the criterion of 10 CFR 51.22(c)(10) for categorical exclusion from the requirement to prepare an environmental assessment or an environmental impact statement. This action qualifies for categorical exclusion under 10 CFR 51.22(c)(10) because it is an amendment to a materials license issued under 10 CFR chapter I which merely changes the position titles of relevant officials of the licensee and makes certain editorial, corrective, and minor revisions, as described previously. Consequently, neither an environmental assessment nor an environmental impact statement is required.

Upon completing its review, the NRC staff determined the application complies with the standards and requirements of the Atomic Energy Act of 1954, as amended (the Act), and the NRC's regulations. The NRC has made appropriate findings as required by the Act and the NRC's regulations in 10 CFR part 72, which are set forth in the license amendment. The license amendment, Amendment No. 12 to License No. SNM-2504, is issued and effective on August 27, 2025.

In accordance with 10 CFR 72.46(b)(2), the NRC has determined that Amendment No. 12 does not present a genuine issue as to whether the health and safety of the public will be significantly affected. Therefore, the publication of a notice of proposed action and an opportunity for hearing or a notice of hearing is not warranted. Notice is hereby given of the right of interested persons to request a hearing on whether the action should be rescinded or modified.

II. Availability of Documents

The documents identified in the following table are available to interested persons through one or more of the following methods, as indicated.

Document description | ADAMS accession No. or Federal Register citation
DOE Letter—License Amendment Request to Update the Licensee Designation of Authority Title for the Fort St. Vrain Independent Spent Fuel Storage Installation, Docket 72-0009, Materials License No. SNM-2504 (CLN250095), dated November 14, 2024 | ML24324A062 (Package).
NRC Letter—Issuance of Amendment No. 10 to Renewed Materials License No. SNM-2504 for the Fort St. Vrain Independent Spent Fuel Storage Installation (TAC No. L24994), dated March 17, 2016 | ML15258A217 (Package).
NRC Letter—Amendment No. 11 to Materials License No. SNM-2504 for the Fort St. Vrain Independent Spent Fuel Storage Installation, dated June 6, 2017 | ML17151A387 (Package).
NRC Letter—Application for License Amendment Request—Amendment No. 12 to Materials License No. SNM-2504 for the Fort St. Vrain Independent Spent Fuel Storage Installation—Accepted for Review (CAC/EPID Nos. 001028/L-2024-LLA-0161), dated March 21, 2025 | ML25073A130.
Federal Register notice, “Department of Energy; Fort St. Vrain Independent Spent Fuel Storage Installation; License Amendment Request,” published May 5, 2025 | 90 FR 19011.
Special Nuclear Materials License No. SNM-2504, dated August 27, 2025 | ML25191A190.
SNM-2504 Technical Specifications, dated August 27, 2025 | ML25191A192.
Fort St. Vrain Independent Spent Fuel Storage Installation, NRC Safety Evaluation Report, dated August 27, 2025 | ML25191A191.

Dated: August 27, 2025.
For the Nuclear Regulatory Commission.
Haimanot Yilma,
Acting Chief, Storage and Transportation Licensing Branch, Division of Fuel Management, Office of Nuclear Material Safety and Safeguards.

[FR Doc. 2025-16670 Filed 8-28-25; 8:45 am]

BILLING CODE 7590-01-P